DEPARTMENT OF LABOR

Employment and Training Administration

Investigations Regarding Certifications of Eligibility to Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 26, 2001.

Interested persons are invited to submit written comments regarding the subject matter of the investigations to the Director, Division of Trade Adjustment Assistance, at the address shown below, not later than March 26, 2001.

The petitions filed in this case are available for inspection at the Office of the Director, Division of Trade Adjustment Assistance, Employment and Training Administration, U.S. Department of Labor, Room C-5311, 200 Constitution Avenue, NW., Washington, DC 20210.

Signed at Washington, DC this 5th day of February, 2001.
Edward A. Tomchick,
Director, Division of Trade Adjustment Assistance.

Appendix
[Petitions Instituted On 02/05/2001]
TA-W | Subject firm (petitioners) | Location | Date of petition | Product(s)
38,621 | OEM/Erie Westland LLC (Comp) | Westland, MI | 01/16/2001 | Plastic Auto Parts
38,622 | Brenner Tank Mauston (Comp) | Mauston, WI | 01/24/2001 | Stainless, Carbon Steel Tank Trailers
38,623 | Eaton/Aeroquip Corp (Wrks) | Ann Arbor, MI | 01/18/2001 | Solder Spheres
38,624 | Johnstown America Corp (USWA) | Johnstown, PA | 01/12/2001 | Railroad Cars and Parts
38,625 | Hayes Lemmerz (Wrks) | Homer, MI | 01/19/2001 | Automotive Drums and Rotors
38,626 | 3 Day Blinds, Inc. (Wrks) | Anaheim, CA | 01/19/2001 | Window Blinds
38,627 | Clinton Imperial China (Wrks) | Clinton, IL | 01/22/2001 | Ceramic Lamps, Vases, Figurines
38,628 | Crown Hosiery LLC (Comp) | Hickory, NC | 01/11/2001 | Socks, Footies, Anklets
38,629 | Sercel, Inc. (Wrks) | Houston, TX | 01/21/2001 | Seismic Data
38,630 | North Douglas Wood Prod. (Wrks) | Drain, OR | 01/20/2001 | Furniture Parts, Wood Paneling
38,631 | Slater Steel (USWA) | Ft. Wayne, IN | 01/10/2001 | Hot Rolled Alloy Bars
38,632 | Intertrade Holdings, Inc. (Wrks) | Copperhill, TN | 01/09/2001 | Sulfuric Acid, Sulfur Dioxide
38,633 | Ventury Designs Ltd (Wrks) | New York, NY | 01/22/2001 | Jewelry
38,634 | Spectrum Dyed Yarns, Inc (Comp) | Belmont, NC | 01/23/2001 | Dyed Yarns
38,635 | Georgia Pacific (Comp) | Kalamazoo, MI | 01/19/2001 | Coated and Uncoated Printing Paper
38,636 | Cookson Pigments, Inc. (Comp) | Newark, NJ | 01/17/2001 | Pigments
38,637 | SPX Corp. (Wrks) | Jackson, MI | 01/22/2001 | Provide Information Technology Services
38,638 | Honeywell, Inc. (USWA) | Ironton, OH | 01/18/2001 | Naphthalene
38,639 | Food Filters (UNITE) | Camden, OH | 01/18/2001 | Food Filters, Fiberfilled Pillows
38,640 | Magnetic Head Technologie (Wrks) | St. Croix Falls, WI | 01/18/2001 | Pape, Play Record and Read Heads
38,641 | Applied Molded Products (UBC) | Watertown, WI | 01/17/2001 | Fiberglass Reinforced Components
38,642 | Globel Tex LLC (UNITE) | Lewiston, ME | 01/23/2001 | Bedspreads, Blankets, & Pillow Jams
38,643 | Three G's Manufacturing (Comp) | Crossville, TN | 01/29/2001 | Knit Shirts
38,644 | International Paper (PACE) | Courtland, AL | 01/18/2001 | Paper
38,645 | Texel USA (Comp) | Henderson, NC | 01/29/2001 | Felts
38,646 | CSC Ltd (USWA) | Warren, OH | 01/22/2001 | Hot Rolled Alloy Steel Bars
38,647 | Milacron Resin Abrasives (USWA) | Carlisle, PA | 01/26/2001 | Grinding Wheels
38,648 | Sterling Last LLC (Comp) | Henderson, TN | 01/25/2001 | Plastic Shoe Lasts
38,649 | Mother Parker Coffee (Comp) | Palisades Park, NJ | 01/20/2001 | Coffee
38,650 | Rayovac Corp (Comp) | Wonewoc, WI | 01/25/2001 | Flashlights, Batteries
38,651 | Georgia Pacific (Wrks) | Gaylord, MI | 01/24/2001 | Partical Board
38,652 | National Electrical Carbo (Comp) | E. Stroudsburg, PA | 01/23/2001 | Carbon Brushes
38,653 | TRW (ICWU) | Auburn, NY | 01/26/2001 | Remote Keyless Entry
38,654 | U.S. Forest Industries (Wrks) | South Fork, CO | 01/25/2001 | Pine Studs
38,655 | Autoliv ASP, Inc (Wkrs) | North Ogden, UT | 01/13/2001 | Filter and Leadwire Assemblies
38,656 | JPM Co (The) (Comp) | San Jose, CA | 01/23/2001 | Cable Assembly
38,657 | Lanier Clothes (Comp) | Greenville, GA | 01/29/2001 | Men's Suits
38,658 | Mirro/Foley (PACE) | Chilton, WI | 01/24/2001 | Alumium Cookware

[FR Doc. 01-6444 Filed 3-14-01; 8:45 am]

BILLING CODE 4510-30-M